DEPARTMENT OF THE INTERIOR

National Park Service

[NPS-WASO-NAGPRA-NPS0024993; PPWOCRADN0-PCU00RP14.R50000]

Notice of Intent To Repatriate Cultural Items: Field Museum of Natural History, Chicago, IL

AGENCY: National Park Service, Interior.

ACTION: Notice.

SUMMARY: The Field Museum of Natural History, in consultation with the appropriate Indian Tribes or Native Hawaiian organizations, has determined that the cultural items listed in this notice meet the definition of sacred objects. Lineal descendants or representatives of any Indian Tribe or Native Hawaiian organization not identified in this notice that wish to claim these cultural items should submit a written request to the Field Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Field Museum of Natural History at the address in this notice by March 26, 2018.

ADDRESSES: Helen Robbins, Field Museum of Natural History, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items under the control of the Field Museum of Natural History, Chicago, IL, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In the summer of 1900, one cultural item was removed from an unknown location in Humboldt County, CA. Museum records indicate that these objects are Wiyot in origin and were collected by Stewart Culin for The Field Museum as part of an expedition co-sponsored by the Museum. Mr. Culin collected objects from what he described as an Indian Rancheria on the Mad River, about a mile away from Blue Lake in the summer of 1900. The one cultural item is a set of “doctor's feathers” that were collected from a Wiyot man named Dick, whose father had been a doctor. The set of doctor's feathers was accessioned by the Field Museum in 1900 and is represented by catalog number 60069. There are seven bundles of condor feathers, which have had their edges trimmed. Some bundles have additional smaller feathers, such as those from a northern flicker, and abalone shells. The feathers would have been used by a doctor in either a healing ceremony or as part of a religious ceremony, including the World Renewal Ceremony. These feathers are imbued and are necessary today for the revitalization and present day practice of Wiyot traditional religion. The Wiyot are culturally affiliated with the area from which the sacred objects were removed. This is supported by archival records and reports, museum records, Department of the Interior sources, academic sources, and correspondence with Wiyot representatives.

Determinations Made by the Field Museum of Natural History

Officials of the Field Museum of Natural History have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Wiyot Tribe, California (previously listed as the Table Bluff Reservation—Wiyot Tribe).

Additional Requestors and Disposition

Lineal descendants or representatives of any Indian Tribe or Native Hawaiian organization not identified in this notice that wish to claim these cultural items should submit a written request with information in support of the claim to Helen Robbins, Field Museum of Natural History, 1400 South Lake Shore Drive, Chicago, IL 60605, telephone (312) 665-7317, email hrobbins@fieldmuseum.org, by March 26, 2018. After that date, if no additional claimants have come forward, transfer of control of the sacred object to the Wiyot Tribe, California (previously listed as the Table Bluff Reservation—Wiyot Tribe) may proceed.

The Field Museum of Natural History is responsible for notifying the Bear River Band of the Rohnerville Rancheria, California; Blue Lake Rancheria, California; Cher-Ae Heights Indian Community of the Trinidad Rancheria, California; and Wiyot Tribe, California (previously listed as the Table Bluff Reservation—Wiyot Tribe) that this notice has been published.

Dated: February 2, 2018.
Melanie O'Brien,
Manager, National NAGPRA Program.

[FR Doc. 2018-03639 Filed 2-21-18; 8:45 am]

BILLING CODE 4312-52-P